DEPARTMENT OF HOUSING AND URBAN DEVELOPMENT

[Docket No. FR-5609-N-06]

Notice of Proposed Information Collection: Comment Request; National Resource Network

AGENCY: Office of the Assistant Secretary for Policy Development and Research, HUD.

ACTION: Notice.

SUMMARY: The proposed information collection requirement described below will be submitted to the Office of Management and Budget (OMB) for review, as required by the Paperwork Reduction Act. The Department is soliciting public comments on the subject proposal.

DATES: Comments Due Date: August 6, 2012.

ADDRESSES: Interested persons are invited to submit comments regarding this proposal. Comments should refer to the proposal by name and/or OMB Control Number and should be sent to: Reports Liaison Officer, Department of Housing and Urban Development, 451 7th Street SW., Washington, DC 20410, Room 9120 or the number for the Federal Information Relay Service (1-800-877-8339).

FOR FURTHER INFORMATION CONTACT: Brittany Gibbs, Office of Policy Development and Research, Department of Housing and Urban Development, 451 7th Street SW., Washington, DC 20410, telephone (202) 402-2826 (this is not a toll free number); email address: SC2Network@hud.gov for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: National Resource Network.

OMB Control Number, if applicable: None.

Description of the need for the information and proposed use: This is a new data collection for application and reporting information related to the proposed National Resource Network. The U.S. Department of Housing and Urban Development Appropriations Act, 2012 (Pub. L. 112-55, approved Nov. 18, 2011) funds technical assistance for HUD programs under the Transformation Initiative (TI) account. Through the SC2 National Resource Network, HUD and its partners will offer a central portal to connect America's most economically distressed local communities to national and local experts with wide-ranging experience and skills.

Agency form numbers, if applicable: SF-424, SF-424supp, SF-LLL, SF 269a, HUD-424CB, HUD-424CBW, HUD-2880, HUD-40040, HUD 40044, and a narrative response to application rating factors.

Estimation of the total numbers of hours needed to prepare the information collection including number of respondents, frequency of response, and hours of response: The number of burden hours is 2,914. The number of respondents is 30, the frequency of response is 2.2, and the burden hour per response is 212.

Status of the proposed information collection: This is a new collection.

Authority: The Paperwork Reduction Act of 1995, 44 U.S.C., Chapter 35, as amended.

Dated: May 29, 2012.
Raphael W. Bostic,
Assistant Secretary for Policy Development and Research.

[FR Doc. 2012-13593 Filed 6-4-12; 8:45 am]

BILLING CODE 4210-67-P